DEPARTMENT OF HEALTH AND HUMAN SERVICES

Centers for Disease Control and Prevention

Advisory Board on Radiation and Worker Health

In accordance with section 10(a)(2) of the Federal Advisory Committee Act (Pub. L. 92-463), the Centers for Disease Control and Prevention (CDC) announces the following committee meeting:

Name: Advisory Board on Radiation and Worker Health (ABRWH), National Institute for Occupational Safety and Health (NIOSH).

Times and Dates: 8 a.m.-4 p.m., December 9, 2003, 8 a.m.-5 p.m., December 10, 2003.

Place: The Westin Casuarina, 160 East Flamingo Road, Las Vegas, Nevada 89109, telephone 702/836-9775, fax 702/836-9776.

Status: Open 8 a.m.-4 p.m., December 9, 2003. Open 8 a.m.-12:30 p.m., December 10, 2003. Closed 2 p.m.-5 p.m., December 10, 2003.

Background: The Advisory Board on Radiation and Worker Health (“the Board”) was established under the Energy Employees Occupational Illness Compensation Program Act (EEOICPA) of 2000 to advise the President, through the Secretary of Health and Human Services (HHS), on a variety of policy and technical functions required to implement and effectively manage the new compensation program. Key functions of the Board include providing advice on the development of probability of causation guidelines which have been promulgated by HHS as a final rule, advice on methods of dose reconstruction which have also been promulgated by HHS as a final rule, evaluation of the scientific validity and quality of dose reconstructions conducted by the National Institute for Occupational Safety and Health (NIOSH) for qualified cancer claimants, and advice on the addition of classes of workers to the Special Exposure Cohort.

In December 2000 the President delegated responsibility for funding, staffing, and operating the Board to HHS, which subsequently delegated this authority to the CDC. NIOSH implements this responsibility for CDC. The charter was renewed on August 3, 2003 and the President has completed the appointment of members to the Board to ensure a balanced representation on the Board.

Purpose: This board is charged with (a) providing advice to the Secretary, HHS on the development of guidelines under Executive Order 13179; (b) providing advice to the Secretary, HHS on the scientific validity and quality of dose reconstruction efforts performed for this Program; and (c) upon request by the Secretary, HHS, advise the Secretary on whether there is a class of employees at any Department of Energy facility who were exposed to radiation but for whom it is not feasible to estimate their radiation dose, and on whether there is reasonable likelihood that such radiation doses may have endangered the health of members of this class.

Matters to be Discussed: The meeting will convene in open session from 8 a.m.-4 p.m. on December 9, 2003 and 8 a.m.-12:30 p.m. on December 10, 2003, to address matters related to NIOSH and Department of Labor updates, an Integrated Module Bioassay Analysis (IMBA) Update, site profile status and roll-out, a Sanford Cohen and Associates brief, reports from the Workgroup on Options for Evaluating Interviews and the Research Issues Workgroup, as well as Board discussion. The remainder of the meeting will proceed in closed session.

The purpose of the closed sessions is to include development, review, and discussion of a proposed Independent Government Cost Estimate (IGCE) for a technical support contract intended to assist the Board in fulfilling its statutory duty to advise the Secretary, HHS regarding dose reconstruction efforts under the EEOICPA. The IGCE will include contract cost estimates, the disclosure of which would adversely impact the Government's negotiating position and strategy in regards to this contract by giving potential bidders an undue advantage in determining the price associated with their bids. The information being discussed will include information of a confidential nature.

This portion of the meeting will be closed to the public in accordance with provisions set forth regarding subject matter considered confidential under the terms of 5 U.S.C. 552b(c)(9)(B), 48 CFR 5.401(b)(1) and (4), and 48 CFR 7.304(d), and the Determination of the Director of the Management Analysis and Services Office, Centers for Disease Control and Prevention, pursuant to Pub. L. 92-463.

A summary of this meeting will be prepared and submitted with 14 days of the close of the meeting.

Agenda items are subject to change as priorities dictate.

FOR FURTHER INFORMATION CONTACT: Larry Elliott, Executive Secretary, ABRWH, NIOSH, CDC, 4676 Columbia Parkway, Cincinnati, Ohio 45226, telephone 513/533-6825, fax 513/533-6826.

The Director, Management Analysis and Services Office, has been delegated the authority to sign Federal Register notices pertaining to announcements of meetings and other committee management activities for both the Centers for Disease Control and Prevention and the Agency for Toxic Substances and Disease Registry.

Dated: November 10, 2003.
Betsey Dunaway,
Acting Director, Management Analysis and Services Office, Centers for Disease Control and Prevention.

[FR Doc. 03-28600 Filed 11-14-03; 8:45 am]

BILLING CODE 4163-19-P